FEDERAL RETIREMENT THRIFT INVESTMENT BOARD

Notice of Board Meeting

DATES: January 23, 2024 at 10:00 a.m. EST.

ADDRESSES: Telephonic. Dial-in (listen only) information: Number: 1-202-599-1426, Code: 472 801 767#; or via web: https://teams.microsoft.com/l/meetup-join/19:meeting_YWU3NGFmZjQtNGYwMy00YjVlLWExYTEtMTkxODhiZTk0ODFi@thread.v2/0?context=%7B%22Tid%22:%223f6323b7-e3fd-4f35-b43d-1a7afae5910d%22,%22Oid%22:%229248ab6a-9efc-44f2-97e7-a7417d24b91f%22%7D.

FOR FURTHER INFORMATION CONTACT: Kimberly Weaver, Director, Office of External Affairs, (202) 942-1640.

SUPPLEMENTARY INFORMATION:

Board Meeting Agenda

Open Session

1. Approval of the December 14, 2023, Board Meeting Minutes

2. Monthly Reports

(a) Participant Report

(b) Legislative Report

3. Quarterly Reports

(c) Investment Review

(d) Budget Review

(e) Audit Status

4. Annual Expense Ratio Review

5. DOL Annual Audit Presentation

6. Internal Audit Update

7. Financial Wellness Survey Update

8. Record Keeping Service Update

Closed Session

9. Information covered under 5 U.S.C. 552b (c)(6), (c)(9)(B) and (c)(10).

Authority: 5 U.S.C. 552b (e)(1).

Dated: January 17, 2024.
Dharmesh Vashee,
General Counsel, Federal Retirement Thrift Investment Board.

[FR Doc. 2024-01098 Filed 1-19-24; 8:45 am]

BILLING CODE P